DEPARTMENT OF TRANSPORTATION

Federal Aviation Administration

14 CFR Part 39

[Docket No. 2002-NM-94-AD; Amendment 39-12697; AD 2002-07-03]

RIN 2120-AA64

Airworthiness Directives; Fokker Model F.28 Series Airplanes

AGENCY: Federal Aviation Administration, DOT.

ACTION: Final rule; request for comments.

SUMMARY: This amendment adopts a new airworthiness directive (AD) that is applicable to all Fokker Model F.28 series airplanes. This action requires revising the Airplane Flight Manual to prohibit operation of the auxiliary power unit (APU) during deicing. This action is necessary to prevent ingestion of deicing fluid into the APU, which could cause uncontained failure of the turbine wheel of the APU, and result in failed and uncontained parts penetrating the aft cabin pressure bulkhead, and consequent possible injury to the cabin crew or passengers. This action is intended to address the identified unsafe condition.

DATES: Effective April 19, 2002.

Comments for inclusion in the Rules Docket must be received on or before May 6, 2002.

ADDRESSES: Submit comments in triplicate to the Federal Aviation Administration (FAA), Transport Airplane Directorate, ANM-114, Attention: Rules Docket No. 2002-NM-94-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2002-NM-94-AD” in the subject line and need not be submitted in triplicate. Comments sent via the Internet as attached electronic files must be formatted in Microsoft Word 97 for Windows or ASCII text.

The information concerning this amendment may be obtained from or examined at the Federal Aviation Administration (FAA), Transport Airplane Directorate, 1601 Lind Avenue, SW., Renton, Washington 98055-4056.

FOR FURTHER INFORMATION CONTACT: Tom Rodriquez, Aerospace Engineer, International Branch, ANM-116, FAA, Transport Airplane Directorate, 1601 Lind Avenue, SW., Renton, Washington 98055-4056; telephone (425) 227-1137; fax (425) 227-1149.

SUPPLEMENTARY INFORMATION: The FAA has received reports indicating that uncontained failure of the auxiliary power unit (APU) has occurred on three Fokker Model F.28 Mark 0100 series airplanes. In all cases, the overspeed of the APU caused uncontained failure of the turbine wheel of the APU with consequent penetration of the aft pressure bulkhead. Investigation revealed that deicing fluid was ingested into the APU inlet. The deicing fluid acted as an additional fuel source, which resulted in runaway acceleration, leading to failure of the turbine wheel. The deicing fluid entered into the APU through the intake air inlet on the upper fuselage surface. This intake air inlet is open only during operation of the APU. Subsequent to the first two occurrences of APU overspeed and turbine wheel failure, operators took actions to abate the occurrences of deicing fluid getting into the APU inlet through additional warnings to flight crews and the personnel performing the deicing. With the most recent event, the FAA has determined that those actions have not been totally effective and additional actions are warranted. Ingestion of deicing fluid into the APU could cause uncontained failure of the turbine wheel of the APU due to overspeed, and result in failed and uncontained parts penetrating the aft cabin pressure bulkhead, and consequent possible injury to the cabin crew or passengers.

Similar Design of the Intake Air Inlet

The APU intake air inlet operation and location on Fokker Model F.28 Mark 0100 series airplanes is the same on Fokker Model F.28 Mark 0070, 1000, 2000, 3000, and 4000 series airplanes; therefore, all these models may be subject to this same unsafe condition.

U.S. Type Certification of the Airplane

These series airplanes are manufactured in the Netherlands and are type certificated for operation in the United States under the provisions of § 21.29 of the Federal Aviation Regulations (14 CFR 21.29) and the applicable bilateral airworthiness agreement.

Explanation of Requirements of Rule

Since an unsafe condition has been identified that is likely to exist or develop on other airplanes of the same type design registered in the United States, this AD is being issued to prevent ingestion of deicing fluid into the APU, which could cause uncontained failure of the turbine wheel of the APU and result in failed and uncontained parts penetrating the aft cabin pressure bulkhead, and consequent possible injury to the cabin crew or passengers. This AD requires revision of the Limitations Section of the Airplane Flight Manual to prohibit operation of the APU during deicing.

Determination of Rule's Effective Date

Since a situation exists that requires the immediate adoption of this regulation, it is found that notice and opportunity for prior public comment hereon are impracticable, and that good cause exists for making this amendment effective in less than 30 days.

Both major airlines operating the F.28 Mark 0100 series airplanes have voluntarily applied the restriction to their operations procedures to prohibit operation of the APU during deicing. In consideration of that information, the FAA has determined that telegraphic notification of this action to those operators is not necessary, since all operators are currently in compliance. However, the issuance of this immediately adopted rule is necessary to ensure that any affected airplane that is imported and placed on the U.S. Register in the future will be required to be in compliance as well. Issuance of this rule will ensure that the AFM is revised accordingly in all affected airplanes, prior to the time it is permitted to operate in the U.S.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-94-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-07-03 Fokker Services B.V.: Amendment 39-12697. Docket 2002-NM-94-AD.

Applicability: All Model F.28 series airplanes, certificated in any category.

Compliance: Required as indicated, unless accomplished previously.

To prevent ingestion of deicing fluid into the auxiliary power unit (APU), which could cause uncontained failure of the turbine wheel of the APU, and result in failed and uncontained parts penetrating the aft cabin pressure bulkhead, and consequent possible injury to the cabin crew or passengers; accomplish the following:

Revising the Airplane Flight Manual (AFM)

(a) Within 14 days after the effective date of this AD, revise the Limitations Section of the FAA-approved AFM to include the following statement (this may be accomplished by inserting a copy of this AD into the AFM): “APU operations during deicing is prohibited.”

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 1: Information concerning the existence of approved alternative methods of compliance with this AD, if any, may be obtained from the International Branch, ANM-116.

Special Flight Permits

(c) Special flight permits may be issued in accordance with §§ 21.197 and 21.199 of the Federal Aviation Regulations (14 CFR 21.197 and 21.199) to operate the airplane to a location where the requirements of this AD can be accomplished.

Effective Date

(d) This amendment becomes effective on April 19, 2002.

Issued in Renton, Washington, on March 28, 2002.
Kalene C. Yanamura,
Acting Manager, Transport Airplane Directorate, Aircraft Certification Service.

[FR Doc. 02-8172 Filed 4-3-02; 8:45 am]

BILLING CODE 4910-13-P